DEPARTMENT OF JUSTICE

Bureau of Alcohol, Tobacco, Firearms and Explosives

[OMB Number 1140-0007]

Agency Information Collection Activities; Proposed eCollection of eComments Requested; Extension With or Without Change of a Currently Approved Collection; Release and Receipt of Imported Firearms, Ammunition and Defense Articles—ATF Form 6A (5330.3C)

AGENCY: Bureau of Alcohol, Tobacco, Firearms and Explosives, Department of Justice.

ACTION: 30-Day notice.

SUMMARY: The Bureau of Alcohol, Tobacco, Firearms and Explosives (ATF), Department of Justice (DOJ) will submit the following information collection request to the Office of Management and Budget (OMB) for review and approval in accordance with the Paperwork Reduction Act of 1995.

DATES: Comments are encouraged and will be accepted for an additional 30 days until March 1, 2021.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Extension with change of a currently approved collection.

(2) The Title of the Form/Collection: Release and Receipt of Imported Firearms, Ammunition and Defense Articles.

(3) The agency form number, if any, and the applicable component of the Department sponsoring the collection:

Form number: ATF Form 6A (5330.3C).

Component: Bureau of Alcohol, Tobacco, Firearms and Explosives, U.S. Department of Justice.

(4) Affected public who will be asked or required to respond, as well as a brief abstract:

Primary: Individuals or households.

Other: Business or other for-profit and not-for-profit institutions.

Abstract: The information collected on the Release and Receipt of Imported Firearms, Ammunition and Defense Articles—ATF Form 6A (5330.3C) is used to determine if articles listed on the permit application meet the statutory and regulatory criteria for importation, and were actually imported.

(5) An estimate of the total number of respondents and the amount of time estimated for an average respondent to respond: An estimated 28,000 respondents will use the form annually, and it will take each respondent approximately 35 minutes to complete their responses.

(6) An estimate of the total public burden (in hours) associated with the collection: The estimated annual public burden associated with this collection is 16,333 hours, which is equal to 28,000 (# of respondents) * .58332 (35 minutes).

If additional information is required contact: Melody Braswell, Department Clearance Officer, United States Department of Justice, Justice Management Division, Policy and Planning Staff, Two Constitution Square, 145 N Street NE, 3E.405A, Washington, DC 20530.

Dated: January 26, 2021.
Melody Braswell,
Department Clearance Officer for PRA, U.S. Department of Justice.

[FR Doc. 2021-01963 Filed 1-28-21; 8:45 am]

BILLING CODE 4410-14-P